DEPARTMENT OF LABOR

Employment and Training Administration

[TA-W-70,961; TA-W-70,961A]

LSI Corporation, 1110 American Parkway, Including On-Site Leased Workers From Spinnaker, Allentown, PA; LSI Corporation, 555 Union Boulevard, Including On-Site Leased Workers From Spinnaker, Allentown, PA; Amended Certification Regarding Eligibility To Apply for Worker Adjustment Assistance

In accordance with Section 223 of the Trade Act of 1974, as amended (“Act”), 19 U.S.C. 2273, the Department of Labor issued a Certification of Eligibility to Apply for Worker Adjustment Assistance on January 28, 2010, applicable to workers of LSI Corporation, 1110 American Parkway and 555 Union Boulevard, Allentown, Pennsylvania. The Notice of determination was published in the Federal Register on March 5, 2010 (75 FR 10320).

At the request of a company official, the Department reviewed the certification for workers of the subject firm. The workers at the subject facilities are engaged in design, development, and marketing for semiconductor and storage systems.

The company reports that workers leased from Spinnaker were employed on-site at both Allentown, Pennsylvania locations of LSI Corporation. The Department has determined that these workers were sufficiently under the control of the subject firm to be considered leased workers.

Based on these findings, the Department is amending this certification to include workers leased from Spinnaker working on-site at the 1110 American Parkway, Allentown, Pennsylvania and the 555 Union Boulevard, Allentown, Pennsylvania locations of LSI Corporation.

The amended notice applicable to TA-W-70,961 and TA-W-70,961A are hereby issued as follows:

All workers of LSI Corporation, 1110 American Parkway, including on-site leased workers from Spinnaker, Allentown, Pennsylvania (TA-W-70,961) and LSI Corporation, 555 Union Boulevard, including on-site leased workers from Spinnaker, Allentown, Pennsylvania, who became totally or partially separated from employment on or after May 29, 2008, through January 28, 2012, and all workers in the group threatened with total or partial separation from employment on the date of certification through two years from the date of certification, are eligible to apply for adjustment assistance under Chapter 2 of Title II of the Trade Act of 1974, as amended.

Signed at Washington, DC, this 13th day of August 2010.
Del Min Amy Chen,
Certifying Officer, Division of Trade Adjustment Assistance.

[FR Doc. 2010-28484 Filed 11-10-10; 8:45 am]

BILLING CODE 4510-FN-P